DEPARTMENT OF TRANSPORTATION

Federal Aviation Administration

14 CFR Part 97

[Docket No. 30685 Amdt. No 3338]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 24, 2009. The compliance date for each SIAP, associated Takeoff Minimums, and ODP is specified in the amendatory provisions.

The incorporation by reference of certain publications listed in the regulations is approved by the Director of the Federal Register as of September 24, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on September 4, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 22 OCT 2009

Bethel, AK, Bethel, RNAV (GPS) RWY 1R, Orig-A

Kenai, AK, Kenai Muni, VOR RWY 19R, Amdt 18C

Florala, AL, Florala Muni, RNAV (GPS) RWY 22, Amdt 1

Greensboro, AL, Greensboro Muni, RNAV (GPS) RWY 18, Orig, CANCELLED

Greensboro, AL, Greensboro Muni, RNAV (GPS) RWY 36, Orig, CANCELLED

Greensboro, AL, Greensboro Muni, Takeoff Minimums and Obstacle DP, Orig, CANCELLED

Phoenix, AZ, Phoenix Sky Harbor Intl, RNAV (RNP) Z RWY 7L, Orig-A

Phoenix, AZ, Phoenix Sky Harbor Intl, RNAV (RNP) Z RWY 7R, Orig-A

Phoenix, AZ, Phoenix Sky Harbor Intl, RNAV (RNP) Z RWY 8, Orig-A

Phoenix, AZ, Phoenix Sky Harbor Intl, RNAV (RNP) Z RWY 25L, Orig-A

Phoenix, AZ, Phoenix Sky Harbor Intl, RNAV (RNP) Z RWY 25R, Orig-A

Phoenix, AZ, Phoenix Sky Harbor Intl, RNAV (RNP) Z RWY 26, Orig-A

Burbank, CA, Bob Hope, RNAV (RNP) Z RWY 8, Orig-A

Ontario, CA, Ontario Intl, RNAV (RNP) Z RWY 8L, Orig-B

Ontario, CA, Ontario Intl, RNAV (RNP) Z RWY 26L, Orig-B

Ontario, CA, Ontario Intl, RNAV (RNP) Z RWY 26R, Orig-B

San Francisco, CA, San Francisco Intl, RNAV (GPS) RWY 28L, Amdt 1

San Francisco, CA, San Francisco Intl, RNAV (GPS) Z RWY 19L, Amdt 1

Santa Rosa, CA, Charles M. Schulz-Sonoma County, ILS OR LOC RWY 32, Amdt 18

Ukiah, CA, Ukiah Muni, RNAV (GPS)-B, Orig

Ukiah, CA, Ukiah Muni, VOR-A, Amdt 4

Ukiah, CA, Ukiah Muni, VOR/DME RNAV OR GPS-B, Amdt 4A, CANCELLED

Pueblo, CO, Pueblo Memorial, Takeoff Minimums and Obstacle DP, Amdt 4

Miami, FL, Kendall-Tamiami Executive, Takeoff Minimums and Obstacle DP, Amdt 8

Palatka, FL, Palatka Muni-Lt Kay Larkin Field, Takeoff Minimums and Obstacle DP, Orig

Brunswick, GA, Brunswick Golden Isles, RNAV (GPS) RWY 7, Amdt 1

Brunswick, GA, Brunswick Golden Isles, RNAV (GPS) RWY 25, Amdt 1

Brunswick, GA, Brunswick Golden Isles, VOR/DME-B, Amdt 9

Claxton, GA, Claxton-Evans County, RNAV (GPS) RWY 9, Amdt 1

Claxton, GA, Claxton-Evans County, RNAV (GPS) RWY 27, Orig

Jasper, GA, Pickens County, NDB RWY 34, Orig, CANCELLED

Jekyll Island, GA, Jekyll Island, GPS RWY 36, Orig-B, CANCELLED

Jekyll Island, GA, Jekyll Island, RNAV (GPS) RWY 36, Orig

Jekyll Island, GA, Jekyll Island, VOR-A, Amdt 10

Thomaston, GA, Thomaston-Upson County, Takeoff Minimums and Obstacle DP, Amdt 2

Guam, GQ, Guam Intl, RNAV (RNP) Z RWY 6L, Orig-C

Guam, GQ, Guam Intl, RNAV (RNP) Z RWY 6R, Orig-B

Guam, GQ, Guam Intl, RNAV (RNP) Z RWY 24L, Orig-D

Guam, GQ, Guam Intl, RNAV (RNP) Z RWY 24R, Orig-B

Kahului, HI, Kahului, ILS OR LOC RWY 2, Amdt 24

Kahului, HI, Kahului, LOC/DME BC RWY 20, Amdt 14

Kapolei, Oahu Island, HI, Kalaeloa (John Rodgers Field), Takeoff Minimums and Obstacle DP, Orig

Kapolei, Oahu Island, HI, Kalaeloa (John Rodgers Field), VOR/DME RWY 4R, Amdt 1

Oskaloosa, IA, Oskaloosa Muni, NDB RWY 22, Amdt 4

Oskaloosa, IA, Oskaloosa Muni, RNAV (GPS) RWY 13, Amdt 1

Oskaloosa, IA, Oskaloosa Muni, RNAV (GPS) RWY 31, Amdt 1

Oskaloosa, IA, Oskaloosa Muni, Takeoff Minimums and Obstacle DP, Orig

Bloomington, IN, Monroe County, ILS OR LOC/DME RWY 35, Amdt 6

Bloomington, IN, Monroe County, VOR/DME RWY 6, Amdt 18

Bloomington, IN, Monroe County, VOR/DME RWY 24, Amdt 12

Pikeville, KY, Pike County-Hatcher Field, ILS OR LOC/DME RWY 27, Amdt 1

Pikeville, KY, Pike County-Hatcher Field, RNAV (GPS) RWY 9, Amdt 1

Pikeville, KY, Pike County-Hatcher Field, RNAV (GPS) RWY 27, Amdt 1

Pontiac, MI, Oakland County Intl, LOC BC RWY 27L, Amdt 1

Pontiac, MI, Oakland County Intl, RNAV (GPS) RWY 9R, Orig

Pontiac, MI, Oakland County Intl, Takeoff Minimums and Obstacle DP, Amdt 5

Pontiac, MI, Oakland County Intl, VOR RWY 9R, Amdt 24

Pontiac, MI, Oakland County Intl, VOR RWY 27L, Amdt 15

Sault Ste Marie, MI, Chippewa County Intl, RNAV (GPS) RWY 16, Amdt 1

Sault Ste Marie, MI, Chippewa County Intl, RNAV (GPS) RWY 34, Amdt 1

Sault Ste Marie, MI, Chippewa County Intl, VOR-A, Amdt 7

Washington, MO, Washington Rgnl, RNAV (GPS) RWY 15, Amdt 2

Washington, MO, Washington Rgnl, RNAV (GPS) RWY 33, Amdt 2

Washington, MO, Washington Rgnl, Takeoff Minimum and Obstacle DP, Amdt 1

Washington, MO, Washington Rgnl, VOR-A, Amdt 2

Fort Benton, MT, Fort Benton, RNAV (GPS) RWY 23, Orig

Fort Benton, MT, Fort Benton, RNAV (GPS)-A, Orig, CANCELLED

Poplar, MT, Poplar, Takeoff Minimums and Obstacle DP, Orig

Ronan, MT, Ronan, RNAV (GPS) RWY 16, Orig

Ronan, MT, Ronan, RNAV (GPS) RWY 34, Orig

Ronan, MT, Ronan, Takeoff Minimums and Obstacle DP, Orig

Greensboro, NC, Piedmont Triad Intl, Takeoff Minimums and Obstacle DP, Amdt 1

York, NE, York Muni, NDB RWY 17, Amdt 6

Fremont, OH, Fremont, RNAV (GPS) RWY 9, Orig

Fremont, OH, Fremont, Takeoff Minimums and Obstacle DP, Amdt 2

Fremont, OH, Fremont, VOR RWY 9, Amdt 6

John Day, OR, Grant Co Rgnl/Ogilvie Field, RNAV (GPS) Z RWY 9, Orig

San Juan, PR, Luis Munoz Marin Intl, VOR OR TACAN RWY 8, Amdt 1

San Juan, PR, Luis Munoz Marin Intl, VOR OR TACAN RWY 10, Amdt 1

San Juan, PR, Luis Munoz Marin Intl, VOR OR TACAN RWY 26, Amdt 20

Spartanburg, SC, Spartanburg Downtown Memorial, Takeoff Minimums and Obstacle DP, Orig

Sumter, SC, Sumter, GPS RWY 23, Orig, CANCELLED

Sumter, SC, Sumter, NDB RWY 23, Amdt 3

Sumter, SC, Sumter, RNAV (GPS) RWY 5, Orig

Sumter, SC, Sumter, RNAV (GPS) Y RWY 23, Orig

Sumter, SC, Sumter, RNAV (GPS) Z RWY 23, Orig

Sumter, SC, Sumter, Takeoff Minimums and Obstacle DP, Amdt 1

Aberdeen, SD, Aberdeen Rgnl, VOR RWY 31, Amdt 21

Aberdeen, SD, Aberdeen Rgnl, VOR/DME RWY 13, Amdt 13

Rockwood, TN, Rockwood Muni, VOR/DME RWY 22, Amdt 6

Dallas-Fort Worth, TX, Dallas-Fort Worth Intl, RNAV (RNP) Z RWY 13R, Orig-B

Dallas-Fort Worth, TX, Dallas-Fort Worth Intl, RNAV (RNP) Z RWY 31L, Orig-B

Dallas-Fort Worth, TX, Dallas-Fort Worth Intl, RNAV (RNP) Z RWY 31R, Amdt 1A

Eagle Pass, TX, Maverick County Memorial Intl, RNAV (GPS) RWY 13, Orig

Grand Praire, TX, Grand Praire Muni, Takeoff Minimums and Obstacle DP, Amdt 4

Brigham City, UT, Brigham City, Takeoff Minimums and Obstacle DP, Amdt 5

Huntington, UT, Huntington Muni, Takeoff Minimums and Obstacle DP, Amdt 2A

Eastsound, WA, Orcas Island, RNAV (GPS)-A, Orig

Eastsound, WA, Orcas Island, Takeoff Minimums and Obstacle DP, Orig

Ellensburg, WA, Bowers Field, RNAV (GPS) RWY 25, Amdt 1

Ellensburg, WA, Bowers Field, RNAV (GPS) RWY 29, Amdt 1

Hoquiam, WA, Bowerman, ILS OR LOC/DME RWY 24, Amdt 3

Port Angeles, WA, William R. Fairchild Intl, RNAV (GPS) RWY 26, Orig

[FR Doc. E9-22059 Filed 9-23-09; 8:45 am]

BILLING CODE 4910-13-P